DEPARTMENT OF COMMERCE

National Oceanic and Atmospheric Administration

RIN 0648-XA208

New England Fishery Management Council; Public Meeting

AGENCY: National Marine Fisheries Service (NMFS), National Oceanic and Atmospheric Administration (NOAA), Commerce.

ACTION: Notice; public meeting.

SUMMARY: The Northeast Fisheries Science Center (NEFSC), in cooperation with the New England Fishery Management Council (Council) will convene a webinar for Council members and the public to review and consider recommendations from the NEFSC Science and Research Director and Northeast Regional Administrator regarding the allocation and prioritization of at-sea observer coverage for April 2011 through March 2012. A draft report was delivered to both the New England and Mid-Atlantic Fishery Management Councils in January, 2011 and is available online at http://www.nefsc.noaa.gov/femad/fsb/SBRM/2011/2011-SBRM-Sea-Day-Analysis-Prioritization.pdf.

DATES: The webinar will be held on Wednesday, March 2, 2011 from 9 a.m. to 11 a.m. (EST). The deadline for the submission of comments on the report is 5 p.m. on March 7, 2011.

ADDRESSES: The meeting will be conducted via webinar.

Addresses: Northeast Fisheries Science Center, 166 Water Street, Woods Hole, MA 02543; New England Fishery Management Council, 50 Water Street, Mill 2, Newburyport, MA 01950.

FOR FURTHER INFORMATION CONTACT: Dr. Paul Rago, Northeast Fisheries Science Center 508-495-2341 or Paul J. Howard, Executive Director, New England Fishery Management Council; telephone: (978) 465-0492.

SUPPLEMENTARY INFORMATION: Information about connecting to the webinar will be posted on the NEFSC's SAW/SARC Web page, http://www.nefsc.noaa.gov/nefsc/saw/ and on the Council's Web site, http://www.nefmc.org, under “What's New”. Both Web sites also will provide links to several other SBRM reports.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: February 8, 2011.
Tracey L. Thompson,
Acting Director, Office of Sustainable Fisheries, National Marine Fisheries Service.

[FR Doc. 2011-3055 Filed 2-10-11; 8:45 am]

BILLING CODE 3510-22-P